ENVIRONMENTAL PROTECTION AGENCY

40 CFR Part 300

[EPA-HQ-SFUND-2000-0003; FRL 9842-7]

National Oil and Hazardous Substances Pollution Contingency Plan; National Priorities List: Direct Deletion of the Imperial Refining Company Superfund Site

AGENCY: Environmental Protection Agency.

ACTION: Direct final rule.

SUMMARY: The Environmental Protection Agency (EPA) Region 6 is publishing a direct final Notice of Deletion of the Imperial Refining Co. Superfund Site located in Ardmore, Carter County, Oklahoma, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of Oklahoma, through the Oklahoma Department of Environmental Quality (ODEQ), because EPA has determined that all appropriate response actions under CERCLA, other than operation, maintenance, and five-year reviews have been completed. However, this deletion does not preclude future actions under Superfund.

DATES: This direct final deletion is effective September 19, 2013 unless EPA receives adverse comments by September 4, 2013. If adverse comments are received, EPA will publish a timely withdrawal of the direct final deletion in the Federal Register informing the public that the deletion will not take effect.

ADDRESSES: Submit your comments, identified by Docket ID No. EPA-HQ-SFUND-2000-0003, by one of the following methods:

• http://www.regulations.gov: Follow internet on-line instructions for submitting comments.

• Email: Brian W. Mueller, mueller.brian@epa.gov.

• Fax: 214-665-6660.

• Mail: Brian W. Mueller; U.S. Environmental Protection Agency, Region 6; Superfund Division (6SF-RA); 1445 Ross Avenue, Suite 1200; Dallas, Texas 75202-7167.

• Hand delivery: U.S. Environmental Protection Agency, Region 6; 1445 Ross Avenue, Suite 700; Dallas, Texas 75202-2733; Contact: Brian W. Mueller (214) 665-7167. Such deliveries are only accepted during the Docket's normal hours of operation, and special arrangements should be made for deliveries of boxed information.

Instructions: Direct your comments to Docket ID No. EPA-HQ-AFUND-2000-0003. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at:

• U.S. Environmental Protection Agency, Region 6; 1445 Ross Avenue, Suite 700; Dallas, Texas 75202-2733; hours of operation: Monday through Friday, 9:00 a.m. to 12:00 p.m. and 1:00 p.m. to 4:00 p.m.. Contact: Brian W. Mueller (214) 665-7167.

• Ardmore Public Library; 320 E. Street NW.; Ardmore, Oklahoma 73401; Hours of Operation: Monday through Thursday 10:00 a.m. until 8:30 p.m.; Friday through Saturday, 10:00 a.m. until 4:00 p.m.; Sunday 1:00 p.m. until 5:00 p.m.

• Oklahoma Department of Environmental Quality; 707 N. Robinson, 2nd floor: Oklahoma City, Oklahoma 73102; Hours of operation: Monday through Friday 8:00 a.m. until 4:30 p.m.

FOR FURTHER INFORMATION CONTACT: Brian W. Mueller, Remedial Project Manager; U.S. Environmental Protection Agency, Region 6; Superfund Division (6SF-RL); 1445 Ross Avenue, Suite 1200; Dallas, Texas 75202-2733, (214) 665-7167; email: mueller.brian@epa.gov.

SUPPLEMENTARY INFORMATION:

Table of Contents

I. Introduction

II. NPL Deletion Criteria

III. Deletion Procedures

IV. Basis for Site Deletion

V. Deletion Action

I. Introduction

EPA Region 6 is publishing this direct final Notice of Deletion of the Imperial Refining Co. Superfund Site (Site), from the National Priorities List (NPL). The NPL constitutes Appendix B of 40 CFR part 300 which is the Oil and Hazardous Substances Pollution Contingency Plan (NCP), which EPA promulgated pursuant to Section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remains eligible for Fund-financed remedial action if future conditions warrant such actions.

Because EPA considers this action to be noncontroversial and routine, this action will be effective September 19, 2013 unless EPA receives adverse comments by September 4, 2013. Along with this direct final Notice of Deletion, EPA is co-publishing a Notice of Intent for Deletion in the “Proposed Rules” section of the Federal Register. If adverse comments are received within the 30-day public comment period on this deletion action, EPA will publish a timely withdrawal of this direct final Notice of Deletion before the effective date of the deletion and the deletion will not take effect. EPA will, as appropriate, prepare a response to comments and continue with the deletion process on the basis of the Notice of Intent for Deletion and the comments already received. There will be no additional opportunity to comment.

Section II of this document explains the criteria for deleting sites from the NPL. Section III discusses procedures that EPA is using for this action. Section IV discusses the Imperial Refining Co. Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to the deletion of the Site:

(1) EPA has consulted with the state of Oklahoma prior to developing this direct final Notice of Deletion and the Notice of Intent for Deletion co-published in the “Proposed Rules” section of the Federal Register.

(2) EPA has provided the state 30 working days for review of this notice and the parallel Notice of Intent to Delete prior to their publication today, and the state, through the ODEQ, has concurred on this deletion of the Site from the NPL.

(3) Concurrently with the publication of this direct final Notice of Deletion, a notice of the availability of the parallel Notice of Intent for Deletion is being published in a major local newspaper, the Daily Ardmoreite. The newspaper announces the 30-day public comment period concerning the Notice of Intent for Deletion of the Site from the NPL.

(4) The EPA placed copies of documents supporting the deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent for Deletion and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for further response actions, should future conditions warrant such actions.

IV. Basis for Site Deletion

The following information provides EPA's rationale for deleting the Site from the NPL.

Site Background and History

The Imperial Refining Co. Superfund Site (CERCLIS ID OK0002024099) is the location of a former petroleum refinery that operated from 1917 to 1934 in Ardmore, Carter County, Oklahoma. The numerous tanks and most of the buildings that were present on the Site during the refinery's operation were dismantled between 1934 and 1948, leaving the property as mixed wooded areas and open fields. No records have been found that describe the types of activities that took place on the Site after 1934. Currently, the land is privately owned by the Hogan Family, L.L.C., and no commercial activities are taking place at the Site. The legal description for the property is SE ¼, NE ¼, Section 20, and SW ¼, NW ¼, Section 21, T4S, R2E, Indian Meridian, which is located within the northeastern portion of the City of Ardmore, Carter County, Oklahoma (Figure 1). The Site is divided into three parcels: the West (36.5 acres), East (14.5 acres) and East Railroad (21 acres). The Site covers approximately 72 acres and is bisected by U.S. Highway 142 and railroad tracks operated by the BNSF Railway Company. The adjacent property to the north and east of Hwy 142 is occupied by a facility that manufactures roofing shingles. Waste-water processing lagoons operated by Valero Refining are located west of the Site, and the rest of the immediately adjacent property is largely undeveloped.

The Imperial Refining Co. began operations at the Site in 1917. The eastern portion of the property was purchased in April 1917, and the western portion was purchased three months later. Imperial Refining Co. remained active for 17 years until it went bankrupt in 1934. Due to the absence of environmental regulations during the operational period, no permits, violations, inspections, or facility operation documentation have been identified, and no records have been found that describe the types of activities that took place on the Site. The ODEQ conducted a Preliminary Assessment in September 1997 and a Site Inspection (SI) in July 1998. During the SI and Removal Assessment, investigators noted 12 waste piles containing an asphalt-like material scattered throughout the property. Soil, sediment, waste pile, and surface water samples were collected. There were numerous pits, piles, and water impoundments contaminated with metals and polynuclear aromatic hydrocarbons (PAHs).

The waste material was found in 12 distinct piles across the Site, one vertical tank remnant, and one underground storage tank (UST). The average thickness of the waste piles was approximately 1foot (ft), and the benzo(a)pyrene concentrations range from 2.5 milligrams per kilogram (mg/kg) to 570 mg/kg. In addition to the waste material, surface soil (0-1 ft below ground surface) and sediment (0-1 ft below ground surface) had elevated concentrations of benzo(a)pyrene and arsenic. The soil concentrations ranged from 1 mg/kg to 90 mg/kg for arsenic and 0.04 mg/kg to 10.2 mg/kg for benzo(a)pyrene. The exposure routes of concern were direct contact and ingestion. Sediments in onsite intermittent drainages were indistinguishable from Site soils except by their location within drainages; therefore, the drainage sediments were considered soils for the remedial action. The sediment concentrations range from 4.7 mg/kg to 33.4 mg/kg for arsenic and 0.062 mg/kg to 1.3 mg/kg for benzo(a)pyrene.

Based on the results, ODEQ referred the property to the EPA for further action. EPA conducted a Removal Assessment in 1998 to determine the absence/presence of hazardous materials and the types and concentrations and a second Removal Assessment in 1999 to estimate waste pile volumes and evaluate disposal options. Based on these results, the Site was proposed to the NPL on May 11, 2000, (Federal Register: May 11, 2000 [Volume 65, No. 92, Page 30489-30495]) and was finalized on July 27, 2000 (Federal Register: July 27, 2000 [Volume 65, Number 145, Page 46096-46104)]). A Removal Action to install a perimeter fence to secure the Site was conducted by EPA from June 29, 2004 through July 23, 2004.

Remedial Investigation and Feasibility Study

The EPA and ODEQ negotiated a Cooperative Agreement under which the ODEQ was the lead agency for the Remedial Investigation/Feasibility Study (RI/FS) with EPA acting as the supporting agency. From early 2005 through early 2007, contractors for the ODEQ conducted a RI/FS including field sampling and investigation activities of soil, sediment, surface water, ground water, and animal tissue. The RI/FS identified the types, quantities, and locations of contaminants found in these samples and developed ways to address the contamination. A Human Health Risk Assessment and an Ecological Risk Assessment were performed to determine the current and future effects of contaminants on human health and the environment.

On-site contamination included waste material, soil and sediment. Arsenic and benzo(a)pyrene are the primary contaminants of concern. The primary sources of contaminants are waste in an underground storage tank and waste piles characterized as dry, asphalt-like material. The waste material is found throughout the Site, and the benzo(a)pyrene concentrations range from 2.5 mg/kg to 570 mg/kg. In addition to the waste material, surface soil (0-1 ft below ground surface) and sediment (0-1 ft below ground surface) have elevated concentrations of benzo(a)pyrene and arsenic. The soil concentrations range from 1 mg/kg to 90 mg/kg for arsenic and 0.04 mg/kg to 10.2 mg/kg for benzo(a)pyrene. Sediments in on-site intermittent drainages are indistinguishable from Site soils except by their location within drainages; therefore, the drainage sediments are considered soils for the remedial action as these remain dry most of the year.

Selected Remedy

A proposed plan for the Site was issued in September 2007, presenting the preferred alternative of excavation and offsite disposal for the waste, contaminated soil, and contaminated sediment at the Site. The Record of Decision (ROD) was signed on December 26, 2007. Remedial Action Objectives (RAOs) were developed for Site soil, sediment, and waste material.

Remedial Action Objectives

Surface Soil

• Prevent exposure to current and future human and ecological receptors through ingestion, dermal contact, and inhalation of contaminated soil containing arsenic and benzo(a)pyrene concentrations in excess of 5E-05 and 2.5E-05 excess cancer risk, respectively.

Pond and Creek Sediment

• Prevent exposure to current and future human receptors through ingestion, dermal contact, and inhalation of contaminated sediment containing arsenic concentrations in excess of 5E-05 excess cancer risk.

• Prevent exposure to current and future ecological receptors through direct contact, food chain uptake, and incidental ingestion of contaminated sediment containing benzo(a)pyrene concentrations in excess of levels that are protective of ecological receptors.

Waste Material

• Prevent exposure to human and ecological receptors through ingestion and dermal contact.

• Prevent further migration of waste material contamination. In order to achieve these RAOs, numerical risk-based cleanup levels were established for each environmental medium based on the residential scenario.

Response Actions

The EPA began on-site Remedial Action construction on February 13, 2008. During remedial action, a total of approximately 105,993 cubic yards of waste/soil and sediment were removed from the Site and shipped to an offsite landfill. Excavated areas were backfilled, graded and seeded after confirmation sampling indicated that cleanup levels have been met. As excavation activities progressed, waste was found along the borders of the property, throughout the ponds, and surrounding a high pressure gas line. Excavation and removal of waste along the borders was not feasible, safe or practical due to its proximity to sloped areas supporting the highway, the rail line, and business property, as well as its depth under significant volumes of uncontaminated overburden.

ROD Amendment

A ROD amendment proposed plan for the Site was issued in November 2008, presenting an additional containment component to the remedy selected in the ROD in areas of the Site where excavation would be impracticable and potentially dangerous to the original excavation and offsite disposal remedy. On February 20, 2009, the EPA Superfund Division Director for Region 6 signed a ROD amendment.

Based on excavation activities and delineation pits throughout the east and west ponds, surface sediment exceeding the ecological cleanup numbers was completely removed. Due to the presence of 18 inches of uncontaminated overburden, the complete removal of surface sediment exceeding the ecological cleanup numbers, and the unknown locations at depth throughout the remaining areas of the ponds, no further excavation occurred in the ponds. Excavation in close proximity to the high pressure gas line was not recommended or considered safe; therefore, waste remains around the gas line within the easement boundaries.

The cleanup levels for the Site were reevaluated in the 2009 ROD Amendment. Because waste remains in-place, cleanup levels for the Site changed from residential to industrial land use. The soil cleanup level for benzo(a)pyrene changed to 5.27 mg/kg. The soil cleanup level is still in line with the latest toxicity toxicological benchmarks. The soil cleanup level for arsenic did not change, and no change was made to sediment cleanup levels. The Site is restricted to industrial use through the enforcement of institutional controls (ICs).

Containment

The 2009 ROD Amendment required the placement of a clay barrier over waste material left in place. The materials left in place are identified as non-hazardous waste and all data indicate that the leaching potential of this material is below regulatory limits for characteristic hazardous waste categories and land disposal restrictions. The backfill material is identified as clayey sand and is expected to have a low hydraulic conductivity (within the range of 1 x 10-3 centimeters per second to 1 x 10-5 centimeters per second). As such, backfill of the excavated areas and areas above the waste material eliminates the potential for direct contact, ingestion, and migration as well as provides for slope control, drainage control, and the establishment of vegetation.

All threats at the Site have been addressed through excavation and disposal of contaminated material, isolation and capping of non-hazardous materials, installation of fencing, posting of warning signs, and implementation of institutional controls. Remedial activities included:

• Transportation and disposal (at a permitted off-site waste disposal facility) of approximately 31,621 yd³ of debris (non-hazardous debris, foundry sand, and slag) and the asbestos-containing material in the on-site building and scattered throughout the Site;

• Removal and disposal of an electrical transformer, and underground storage tank in the vicinity of MW-20 and Lead Area 1, and the management and disposal of foundry bag filters identified as a listed K061 waste material;

• Excavation and treatment (solidification/stabilization, if necessary) of approximately 13,600 yd³ of soils with lead concentrations equal to or greater than 500 mg/kg to a maximum depth of 1.5 feet bgs and approximately 3,000 yd³ of soils stockpiled at the Site from a previous removal action, and transportation and disposal (at a permitted off-site wastes disposal facility) of the treated and untreated soils;

• Excavation and disposal (at a permitted off-site waste disposal facility) of approximately 2,100 yd³ of soils contaminated with benzo(a)pyrene, or other organics, at the MW-11 location, and total petroleum hydrocarbons at the MW-20 location;

• Confirmation sampling for several locations identified to have been impacted by either semi-volatile organic compounds.

Cleanup Goals

The soil remedial action at the Site consisted of the sampling and excavation, including the proper disposal of the soils contaminated with arsenic greater than 20 mg/kg and benzo(a)pyrene greater than 5.27 mg/kg. The soil cleanup levels were based on a residential scenario of 20 mg/kg for arsenic and an industrial scenario of 1.55 mg/kg for benzo(a)pyrene specified in Record of Decision Amendment. The sediment remedial action at the Site consisted of the sampling and excavation, including the proper disposal of the sediments contaminated with arsenic greater than 20 mg/kg and benzo(a)pyrene greater than 0.782 mg/kg. The sediment cleanup levels were based on a residential scenario of 20 mg/kg for arsenic and an ecological scenario of 0.782 mg/kg for benzo(a)pyrene specified in the Record of Decision. Institutional controls were required for the soils since the soils were cleaned up to an industrial level which did not exceed the cleanup level below 1.5 feet below ground surface. A total of 107,299 tons, approximately 105, 993 cubic yards, of material were sent to the Waste Connection Landfill in Alex, Oklahoma.

The EPA reviewed the remedial action contract and the construction work for compliance with quality assurance and quality control (QA/QC) protocols. Construction activities at the Site were determined to be consistent with the ROD and adhered to the approved quality assurance plan which incorporated all EPA and State requirements. Confirmatory inspections, independent testing, audits, and evaluations of materials and workmanship were performed in accordance with the technical specifications and plans. The EPA Remedial Project Manager and State regulators visited the site during construction activities to review construction progress and evaluate and review the results of QA/QC activities. No deviations or non-adherence to QA/QC protocols, or specifications were identified.

The quality assurance project plan incorporated all EPA and State QA/QC procedures and protocols. All monitoring equipment was calibrated and operated in accordance with the manufacturer's instructions. The EPA analytical methods were used for all confirmation and monitoring samples during RA activities. Contract laboratory program-like procedures and protocol were followed for soil, sediments, and water analyses during the RA using a private laboratory.

The EPA contract for the remedial action contained provisions for performing sampling during all remedial activities in order to verify that remedial objectives were met, to ensure quality control and assurance for all excavation and construction activity, and to ensure protection and safety of the public, the environment, and the onsite worker. Sampling was conducted in accordance with the Site Field Sampling Plan and all analytical results are below the established cleanup levels for an industrial reuse scenario. In addition, all backfill confirmation sample results met the established cleanup levels for an industrial reuse scenario. All analytical data was independently validated, and the EPA determined that analytical results were accurate to the degree needed to assure satisfactory execution of the RA.

Operation and Maintenance

An Operation and Maintenance (O&M) plan for the Site is in effect and is required because waste has been left in place and the Site has been restricted to industrial use. ODEQ is responsible for conducting O&M activities on annual basis or more frequently if necessary. O&M activities include Site inspections for erosion, property uses, and enforcement of the Institutional Controls (ICs). This activity may also include maintenance of the slopes through grading, seeding, or importing of backfill that may be needed. Maintenance of these slopes will provide continued slope support, continued drainage control, and continued vegetation growth. Areas of primary interest will include the slopes along Hwy 142, Atlas Roofing Inc., Oneok Gas Pipeline, BNSF Railway, and Valero Refining. Site operational and functional activities were conducted by EPA until ODEQ took over O&M of the Site in December 2012.

Institutional Controls

All administrative tools have been implemented at the Imperial Refining Superfund Site. Seven deed notices/covenants identifying restrictions were filed with the Carter County Clerk from June 2009 to August 2011. Appendix N of the Final Remedial Action Report contains copies of each deed notice/covenant.

Some of the deed restrictions include the following requirements and information:

• No residential land use,

• No digging below 5 feet where waste remains in place,

• No activities that will disturb or cause erosion of the sediments within the ponds located on the site,

• No excavations causing erosion,

• No excavation below base material of the road bed (State Highway 142)

Roadway and right-of-way, and

• No ground water taken or well drilling allowed.

Five-Year Review

Five-Year Reviews of the Site are statutorily required because hazardous substances, pollutants, or contaminants remain at the Site above levels that allow for unlimited use and unrestricted exposure. The first five-year review was conducted at the Site in February 2013. The implemented action taken at the Imperial Refining Superfund Site was found to be protective of human health and the environment in the long-term. The Imperial Refining Co. Superfund Site's first Five-Year Review Report protectiveness determination follows:

The selected remedy for the Site currently protects human health and the environment because the remedy is performing as intended and institutional controls are in place restricting land and groundwater use. The remedy will remain protective of human health and the environment in the long-term provided O&M activities continue, and the institutional controls remain in place.

The next Five-Year Review will be performed in 2018.

Community Involvement

Public participation activities have been satisfied as required in CERCLA Section 113(k), 42 U.S.C. 9613(k) and CERCLA Section 117, 42 U.S.C. 9617. Throughout the Site's history, the community has been interested and involved with Site activity. The EPA has kept the community and other interested parties updated on Site activities through informational meetings, fact sheets, and public meetings. Documents in the deletion docket which the EPA relied on for recommendation for the deletion from the NPL are available to the public in the information repositories, and a notice of availability of the Notice of Intent for Deletion has been published in the Daily Ardmorite to satisfy public participation procedures required by 40 CFR 300.425(e)(4).

Determination That the Criteria for Deletion Have Been Met

The implemented remedy achieves the degree of cleanup specified in the ROD and ROD Amendment for all pathways of exposure. All selected remedial action objectives and clean-up goals are consistent with agency policy and guidance. No further Superfund responses are needed to protect human health and the environment at the Site.

In accordance with 40 CFR 300.425(e), sites may be deleted from the NPL where no further response is appropriate.

V. Deletion Action

The EPA, with concurrence of the State of Oklahoma, through the ODEQ, has determined that all appropriate response actions under CERCLA have been completed. Therefore, EPA is deleting the Site from the NPL.

Because EPA considers this action to be noncontroversial and routine, EPA is taking it without prior publication. This action will be effective September 19, 2013 unless EPA receives adverse comments by September 4, 2013. If adverse comments are received within the 30-day public comment period, EPA will publish a timely withdrawal of this direct final notice of deletion before the effective date of the deletion and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 25, 2013.
Ron Curry,
Regional Administrator, Region 6.

For the reasons set out in this document, 40 CFR Part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[Amended]

2. Table 1 of Appendix B to Part 300 is amended by removing the entry “Imperial Refining Company”, ”Ardmore”, “OK”.

[FR Doc. 2013-18875 Filed 8-2-13; 8:45 am]

BILLING CODE 6560-50-P